NUCLEAR REGULATORY COMMISSION

[Docket No. 50-482]

Kansas City Power & Light Company (Wolf Creek Generating Station); Order Approving Application Regarding Proposed Corporate Restructuring

I

Kansas City Power & Light Company (KCPL) holds a 47 percent ownership interest in Wolf Creek Generating Station (WCGS) and in connection therewith is a holder of Facility Operating License No. NPF-42. The facility is located in Coffey County, Kansas. The other co-owner licensees for WCGS are Kansas Gas & Electric Company (KGE) (with a 47 percent share of WCGS), and Kansas Electric Power Cooperative, Inc. (KEPCo) (with a 6 percent share). Wolf Creek Nuclear Operating Corporation (WCNOC) is the licensed operator of WCGS, and KCPL also owns a 47 percent interest in WCNOC, with KGE and KEPCo owning 47 percent and 6 percent interests in WCNOC, respectively. KCPL, as well as KGE and KEPCo, hold possession-only licenses.

II

Pursuant to section 184 of the Atomic Energy Act of 1954, as amended, and 10 CFR 50.80, KCPL filed an application dated February 20, 2001, which was supplemented by submittals dated February 27, March 5, March 8, March 28, and May 4, 2001, from counsel for KCPL, requesting approval of the indirect transfer of the WCGS license, to the extent such would result from the proposed restructuring of KCPL. As stated in the application, the proposed restructuring encompasses the formation by KCPL of a new holding company as yet unnamed (“HoldingCo”). Upon the proposed restructuring, KCPL will cease to be publicly-traded and become a wholly-owned subsidiary of HoldingCo, but will retain ownership of its regulated electric power generation, transmission, and distribution assets, including its interests in WCGS and WCNOC. No direct transfer of the license to HoldingCo or otherwise is being proposed. WCNOC would remain as the managing agent for the joint owner licensees (KCPL, KGE, and KEPCo) of the facility and would continue to have exclusive responsibility for the management, operation, and maintenance of WCGS as the non-owner operator licensee. The application does not propose a change in the rights, obligations, or interests of the licensees of WCGS. In addition, no physical changes to WCGS or operational changes are being proposed.

KCPL stated that it and HoldingCo will be able to respond more effectively to increased competition in the energy industry and pursue pending unregulated electric generation ventures as a result of the new corporate structure.

Notice of the application and an opportunity for hearing was published in the Federal Register on May 2, 2001 (66 FR 22019). No written comments or hearing requests were received.

Under 10 CFR 50.80, no license shall be transferred, directly or indirectly, through transfer of control of the license, unless the Commission gives its consent in writing. Upon review of the information provided by KCPL in its application, the supplements thereto, and other information before the Commission, the NRC staff has determined that the proposed restructuring will not affect the qualifications of KCPL or WCNOC as holders of the license referenced above and that the indirect transfer of the license, to the extent effected by the proposed restructuring of KCPL, is otherwise consistent with applicable provisions of law, regulations, and orders issued by the Commission, subject to the conditions set forth herein. These findings are supported by a safety evaluation dated June 1, 2001.

III

Accordingly, pursuant to sections 161b, 161i, 161o, and 184 of the Atomic Energy Act of 1954, as amended, 42 USC §§ 2201(b), 2201(i), 2201(o), and 2234; and 10 CFR 50.80, it is hereby ordered that the application regarding the proposed restructuring of KCPL and indirect license transfer is approved, subject to the following conditions:

(1) KCPL shall provide the Director of the Office of Nuclear Reactor Regulation a copy of any application, at the time it is filed, to transfer (excluding grants of security interests or liens) from KCPL to its proposed parent, or to any other affiliated company, facilities for the production, transmission, or distribution of electric energy having a depreciated book value exceeding 10 percent (10%) of KCPL's consolidated net utility plant as recorded on KCPL's books of account.

(2) Should the proposed restructuring of KCPL not be completed by June 1, 2002, this Order shall become null and void, provided, however, upon application and for good cause shown, such date may be extended.

This Order is effective upon issuance.

For further details with respect to this action, see the license transfer application filed by KCPL dated February 20, 2001, and the supplemental submittals dated February 27, March 5, March 8, March 28, and May 4, 2001, from counsel for KCPL, and the safety evaluation dated June 1, 2001, which are available for public inspection at the Commission's Public Document Room located at One White Flint North, 11555 Rockville Pike (first floor), Rockville, Maryland, and accessible electronically through the ADAMS Public Electronic Reading Room link at the NRC Web site(http://www.nrc.gov).

Dated at Rockville, Maryland, this first day of June 2001.
For the Nuclear Regulatory Commission.
Jon R. Johnson,
Acting Director, Office of Nuclear Reactor Regulation.

[FR Doc. 01-14495 Filed 6-7-01; 8:45 am]

BILLING CODE 7590-01-P